INTERNATIONAL TRADE COMMISSION

Notice of Appointment of Individuals To Serve as Members of the Performance Review Board

AGENCY: United States International Trade Commission.

ACTION: Notice.

DATES: December 7, 2018.

FOR FURTHER INFORMATION CONTACT: Eric Mozie, Director of Human Resources, or Ronald Johnson, Senior Human Resources Specialist, U.S. International Trade Commission (202) 205-2651.

SUPPLEMENTARY INFORMATION: The Chairman of the U.S. International Trade Commission has appointed the following individuals to serve on the Commission's Performance Review Board (PRB):

Chair of the PRB: Commissioner Irving A. Williamson

Vice-Chair of the PRB: Commissioner Meredith Broadbent

Member—John Ascienzo

Member—Dominic Bianchi

Member—Nannette Christ

Member—Catherine DeFilippo

Member—James Holbein

Member—Margaret Macdonald

Member—Stephen A. McLaughlin

Member—William Powers

Authority: This notice is published in the Federal Register pursuant to the requirement of 5 U.S.C. 4314(c)(4). Hearing impaired individuals are advised that information on this matter can be obtained by contacting our TDD terminal on (202) 205-1810.

By order of the Commission.
Issued: December 4, 2018.
Lisa Barton,
Secretary to the Commission.

[FR Doc. 2018-26742 Filed 12-12-18; 8:45 am]

BILLING CODE 7020-02-P